ENVIRONMENTAL PROTECTION AGENCY

40 CFR Part 52

[EPA-R07-OAR-2016-0501; FRL-9952-44-Region 7]

Approval of Iowa's Air Quality Implementation Plans; Correction

AGENCY: Environmental Protection Agency (EPA).

ACTION: Final rule; correcting amendment.

SUMMARY: The Environmental Protection Agency (EPA) inadvertently approved and codified incorrect entries for final rule actions published in the Federal Register. This technical amendment corrects the entries.

DATES: This rule is effective on September 20, 2016.

FOR FURTHER INFORMATION CONTACT: Jan Simpson at (913) 551-7089, or by email at simpson.jan@epa.gov.

SUPPLEMENTARY INFORMATION: EPA inadvertently approved and codified incorrect entries in paragraph (c) to 40 CFR 52.820 for three separate final rule actions published in the Federal Register. The first published on June 11, 2015, the second published on August 14, 2015, and the third published on June 17, 2016.

The June 11, 2015 (80 FR 33192), Federal Register direct final action approving revisions to chapter 22 rule 567-22.3 “Issuing Permits” omitted the following sentence in the explanation column on page 33194 “Subrule 22.3(6) has not been approved as part of the SIP. Subrule 22.3(6), Limits on Hazardous Air Pollutants, has been approved under Title V and section 112(l). The remainder of the rule has not been approved pursuant to Title V and section 112(l)”. Therefore we are correcting page 33194 of the June 11, 2015, Federal Register direct final rule to add the missing language to the explanation column in table section 52.820 (c). The August 14, 2015 (80 FR 48718), Federal Register final rule codification of this same rule, chapter 22 rule 567-22.3 “Issuing Permits”, state effective date and the citation information in the EPA approval date column is incorrect. Therefore, we are correcting page 48720 of the August 14, 2015, Federal Register final rule to reflect the most current Federally-approved information by changing the state effective date and the EPA approval date column information.

The June 17, 2016 (81 FR 39585), Federal Register direct final action approving revisions to chapter 20 rule 567.20.2 “Definitions” state effective date of May 7, 2008, on page 39587 is correct, however the state effective date April 22, 2015, published on June 11, 2015 (80 FR 33192) is the most current chronological effective date of this rule. By using the most current chronological effective date, we provide the reader a clear understanding of the Federally-approved state effective date of this rule. Therefore, we are correcting page 39587 of the June 17, 2016, Federal Register direct final action to reflect the information of the most chronological effective and EPA approval dates.

Dated: September 6, 2016.
Mark Hague,
Regional Administrator, Region 7.

Chapter I, title 40 of the Code of Federal Regulations is amended as follows:

PART 52—APPROVAL AND PROMULGATION OF IMPLEMENTATION PLANS

1. The authority citation for part 52 continues to read as follows:

Authority: 42 U.S.C. 7401 et seq.

Subpart Q—Iowa

2. Amend § 52.820(c) by revising the entries for 567-20.2 and 567-22.3 to read as follows:

* * * * *

(c) * * *

EPA-Approved Iowa Regulations
Iowa citation | Title | State effective date | EPA Approval date | Explanation
Iowa Department of Natural Resources Environmental Protection Commission (567)
Chapter 20—Scope of Title—Definitions—Forms—Rule of Practice
* * * * * * *
567-20.2 | Definitions | 4/22/15 | 6/17/16; 81 FR 39585 | The definitions for “anaerobic lagoon,” “odor,” “odorous substance,” “odorous substance source” are not SIP approved.
* * * * * * *
Chapter 22—Controlling Pollution
567-22.3 | Issuing Permits | 4/22/15 | 6/11/15; 80 FR 33192 | Subrule 22.3(6) has not been approved as part of the SIP. Subrule 22.3(6), Limits on Hazardous Air Pollutants, has been approved under Title V and section 112(l). The remainder of the rule has not been approved pursuant to Title V and section 112(l).
* * * * * * *

* * * * *

[FR Doc. 2016-22398 Filed 9-19-16; 8:45 am]

BILLING CODE 6560-50-P